DEPARTMENT OF ENERGY

10 CFR Parts 429, 430 and 431

[Docket No. EERE-2010-BT-CE-0014]

RIN 1904-AC23

Energy Conservation Program: Certification, Compliance, and Enforcement for Consumer Products and Commercial and Industrial Equipment

AGENCY: Office of Energy Efficiency and Renewable Energy, Department of Energy.

ACTION: Proposed rule; extension of comment period.

SUMMARY: This document announces an extension of the time period for submitting written comments on the notice of proposed rulemaking, regarding the Energy Conservation Program: Certification, Compliance, and Enforcement for Consumer Products and Commercial and Industrial Equipment. The comment period is extended to October 29, 2010.

DATES: The comment period for the proposed rule published on September 16, 2010 (75 FR 56796) is extended to October 29, 2010.

ADDRESSES: Interested persons are encouraged to submit comments using the Federal eRulemaking Portal at http://www.regulations.gov. Follow the instructions for submitting comments. Alternatively, interested persons may submit comments, identified by docket number EERE-2010-BT-CE-0014, by any of the following methods:

• E-mail: CCE-2010-BT-CE-0014@ee.doe.gov. Include EERE-2010-BT-CE-0014 in the subject line of the message.

• Mail: Ms. Brenda Edwards, U.S. Department of Energy, Building Technologies Program, Mailstop EE-2J, Revisions to Energy Efficiency Enforcement Regulations, EERE-2010-BT-CE-0014, 1000 Independence Avenue, SW., Washington, DC 20585-0121. Phone: (202) 586-2945. Please submit one signed paper original.

• Hand Delivery/Courier: Ms. Brenda Edwards, U.S. Department of Energy, Building Technologies Program, 6th Floor, 950 L'Enfant Plaza, SW., Washington, DC 20024. Phone: (202) 586-2945. Please submit one signed paper original.

Instructions: All submissions received must include the agency name and docket number or RIN for this rulemaking. Note that all comments received will be posted without change, including any personal information provided.

Docket: For access to the docket to read background documents, or comments received, go to the Federal eRulemaking Portal at http://www.regulations.gov.

FOR FURTHER INFORMATION CONTACT: Ashley Armstrong, 202-586-6590, e-mail: Ashley.Armstrong@ee.doe.gov, or Celia Sher, Esq., 202-287-6122, e-mail: Celia.Sher@hq.doe.gov.

SUPPLEMENTARY INFORMATION: The U.S. Department of Energy (DOE) proposed revisions to its existing certification, compliance, and enforcement regulations for certain consumer products and commercial and industrial equipment covered under the Energy Policy and Conservation Act of 1975, as amended (EPCA or the “Act”), in a notice of proposed rulemaking (NOPR) published in the Federal Register on September 16, 2010. 75 FR 56796. These regulations provide for sampling plans used in determining compliance with existing standards, manufacturer submission of compliance statements and certification reports to DOE, maintenance of compliance records by manufacturers, and the availability of enforcement actions for improper certification or noncompliance with an applicable standard. The NOPR informed interested parties that DOE would accept written comments through October 18, 2010.

The Air-Conditioning, Heating, and Refrigeration Institute (AHRI) requested an extension of the time to submit comments. In its request, AHRI stated that the additional time is necessary for AHRI and its members to properly respond to the questions and issues raised in the proposed rule given the potential impact of the proposed rule on the air conditioning, heating and refrigeration industry.

Based on AHRI's request and the number of questions and issues raised during the public meeting, DOE believes that extending the comment period to allow additional time for interested parties to submit comments is appropriate. Therefore, DOE is extending the comment period until October 29, 2010 to provide interested parties additional time to prepare and submit comments. DOE will accept comments received no later than October 29, 2010 and will not consider any further extensions to the comment period.

Issued in Washington, DC, on October 13, 2010.
Cathy Zoi,
Assistant Secretary, Energy Efficiency and Renewable Energy.

[FR Doc. 2010-26230 Filed 10-18-10; 8:45 am]

BILLING CODE 6450-01-P